DEPARTMENT OF TRANSPORTATION

Federal Aviation Administration

14 CFR Part 39

[Docket No. FAA-2004-17890; Directorate Identifier 2004-CE-14-AD; Amendment 39-13649; AD 2004-11-04]

RIN 2120-AA64

Airworthiness Directives; Eagle Aircraft (Malaysia) Sdn. Bhd Model Eagle 150B Airplanes

AGENCY: Federal Aviation Administration (FAA), DOT.

ACTION: Final rule; request for comments.

SUMMARY: The FAA is adopting a new airworthiness directive (AD) for all Eagle Aircraft (Malaysia) Sdn. Bhd (Eagle Aircraft) Model Eagle 150B airplanes. This AD requires you to inspect certain canard inboard flap hinge support brackets (initially prior to further flight and repetitively before the first flight of each day) and perform any necessary follow-up action. This AD is the result of mandatory continuing airworthiness information (MCAI) issued by the airworthiness authorities for Australia and Malaysia. We are issuing this AD to prevent failure of the canard inboard flap hinge support brackets caused by undetected cracks. This failure could result in asymmetric flap deployment and the inability to lower or raise the flaps with consequent loss of control of the airplane.

DATES: This AD becomes effective on June 4, 2004.

As of June 4, 2004, the Director of the Federal Register approved the incorporation by reference of certain publications listed in the regulation.

We must receive any comments on this AD by June 26, 2004.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

You may get the service information identified in this AD from Eagle Aircraft, P.O. Box 1028, Pejabat Pos Besar Melaka, 75150 Melaka, Malaysia; telephone: (606) 317-4105; facsimile: (606) 317-7213.You may review copies at the National Archives and Records Administration (NARA). For information on the availability of this material at NARA, go to: http://www.archives.gov/federal_register/code_of_federal_regulations/ibr_locations.html or call (202) 741-6030.

You may view the AD docket at the Docket Management Facility; U.S. Department of Transportation, 400 Seventh Street, SW., Nassif Building, Room PL-401, Washington, DC, or at http://dms.dot.gov.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Department of Civil Aviation (DCA) for Malaysia recently issued AD No.: CAM AD 001-2004, dated January 19, 2004, against Eagle Aircraft Models X-TS, X-TS 150, and 150B airplanes. CAM AD 001-2004 requires the following for these airplanes that are registered for operation in Malaysia:

—a visual inspection of the gusset weld area of the canard inboard flap hinge support brackets for cracks (cracked, lifted, or missing paint in the area of the weld or suspected cracks);

—a more detailed inspection (using fluorescent penetrant inspection (FPI) methods) if any of the above conditions exist; and

—replacement of any canard inboard flap hinge support bracket with cracks and continued repetitive inspections of the replacement bracket.

The DCA is currently the country with State of Design responsibilities on the affected airplanes. Prior to the DCA, the Civil Aviation Safety Authority (CASA) of Australia had the State of Design responsibilities. During this time, the CASA issued CASA AD/X-TS/5, dated October 2003, to address the unsafe condition and require the above actions on Models XTS-150 and 150B airplanes registered for operation in Australia.

The Australian and Malaysian ADs were issued based on reports of cracks in the gusset weld area of the canard inboard flap hinge support brackets on several of the affected airplanes. Neither authority has been able to attribute the cracks to a specific cause. The probable causes are:

• manufacturing defects: the part might have suffered from a burn-through during welding or the outperforming stress relieving process after welding;

• design problems: poor distribution of stress concentration could create fatigue hotspots; and

• operational problems: pilot exceeds Vfe (flap extension speed), inducing loads higher than the certificated limit load).

In addition, no information exists regarding damage tolerance on these brackets to show the part can absorb any kind of crack without leading to immediate failure.

Based on all of this, the CASA and DCA both issued ADs for their respective countries that require prior to further flight initial inspections and before the first flight of each day repetitive inspections.

The Eagle Aircraft Model Eagle 150B is the only affected airplane model type certificated for operation in the United States. There are currently 11 of these airplanes on the U.S. registry.

What is the potential impact if FAA took no action? Cracks in the canard inboard flap hinge support brackets, if not detected and corrected, could lead to failure of these brackets. This failure could result in asymmetric flap deployment and the inability to lower or raise the flaps with consequent loss of control of the airplane.

Is there service information that applies to this subject? Eagle Aircraft has issued Mandatory Service Bulletin SB 1109, Revision Original, Effective Date August 29, 2003.

What are the provisions of this service information? The service bulletin includes procedures for performing the actions required by AD No.: CAM AD 001-2004, dated January 19, 2004.

Did the CASA of Australia and the DCA of Malaysia inform the United States under the bilateral airworthiness agreement? The Model Eagle 150B airplanes are manufactured in Australia or Malaysia (with Malaysia having current State of Design responsibilities) and are type-certificated for operation in the United States under the provisions of section 21.29 of the Federal Aviation Regulations (14 CFR 21.29) and the applicable bilateral airworthiness agreement.

Under this bilateral airworthiness agreement, the CASA and DCA have kept us informed of the situation described above.

FAA's Determination and Requirements of This AD

What has FAA decided? We have examined the CASA's and DCA's findings, reviewed all available information, and determined that we need to issue an AD for products of this type design that are certificated for operation in the United States.

Since the unsafe condition described previously is likely to exist or develop on other Eagle Aircraft Model Eagle 150B airplanes of the same type design that are registered in the United States, we are issuing this AD to prevent failure of the canard inboard flap hinge support brackets caused by undetected cracks. This failure could result in asymmetric flap deployment and the inability to lower or raise the flaps with consequent loss of control of the airplane.

What does this AD require? This AD requires you to perform the actions referenced in the previously-referenced service information.

In preparing this rule, we contacted type clubs and aircraft operators to get technical information and information on operational and economic impacts. We did not receive any information through these contacts. If received, we would have included a discussion of any information that may have influenced this action in the rulemaking docket.

Are there differences between this AD and the Malaysian and Australian ADs? Yes. The Australian AD allows an appropriately trained pilot to perform the visual inspections of the canard inboard flap hinge support brackets. Although the Malaysian AD does not specifically state this, it does refer to the Australian AD. Regardless, the Federal Aviation Regulations (14 CFR 43.3) only allow the pilot to perform preventive maintenance as described in 14 CFR part 43, App. A, paragraph (c). These visual inspections are not considered preventive maintenance under 14 CFR part 43, App. A, paragraph (c). Therefore, an appropriately-rated mechanic must perform all actions of this AD.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include the docket number, “FAA-2004-17890; Directorate Identifier 2004-CE-14-AD” at the beginning of your comments. We will post all comments we receive, without change, to http://dms.dot.gov, including any personal information you provide. We will also post a report summarizing each substantive verbal contact with FAA personnel concerning this AD.

Using the search function of our docket Web site, anyone can find and read the comments received into any of our dockets, including the name of the individual who sent the comment (or signed the comment on behalf of an association, business, labor union, etc.). This is docket number FAA-2004-17890; Directorate Identifier 2004-CE-14-AD. You may review the DOT's complete Privacy Act Statement in the Federal Register published on April 11, 2000 (65 FR 19477-78) or you may visit http://dms.dot.gov.

Are there any specific portions of this AD I should pay attention to? We specifically invite comments on the overall regulatory, economic, environmental, and energy aspects of this AD. If you contact us through a nonwritten communication and that contact relates to a substantive part of this AD, we will summarize the contact and place the summary in the docket. We will consider all comments received by the closing date and may amend this AD in light of those comments and contacts.

Docket Information

Where can I go to view the docket information? You may view the AD docket that contains the AD, any comments received, and any final disposition in person at the DMS Docket Offices between 9 a.m. and 5 p.m. (eastern standard time), Monday through Friday, except Federal holidays. The Docket Office (telephone 1-800-647-5227) is located on the plaza level of the Department of Transportation Nassif Building at the street address stated in ADDRESSES. You may also view the AD docket on the Internet at http://dms.dot.gov. The comments will be available in the AD docket shortly after the DMS receives them.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-17890; Directorate Identifier 2004-CE-14-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-11-04 Eagle Aircraft (Malaysia) SDN. BHD: Amendment 39-13649; Docket No. FAA-2004-17890; Directorate Identifier 2004-CE-14-AD.

When Does This AD Become Effective?

(a) This AD becomes effective on June 4, 2004.

Are Any Other ADs Affected by This Action?

(b) None.

What Airplanes Are Affected by This AD?

(c) This AD affects Model Eagle 150B airplanes, all serial numbers, that are certificated in any category.

What Is the Unsafe Condition Presented in This AD?

(d) This AD is the result of mandatory continuing airworthiness information (MCAI) issued by the airworthiness authority for Malaysia and Australia. We are issuing this AD to prevent failure of the canard inboard flap hinge support brackets caused by undetected cracks. This failure could result in asymmetric flap deployment and the inability to lower or raise the flaps with consequent loss of control of the airplane.

What Must I Do To Address This Problem?

(e) To address this problem, you must do the following:

Note: The Australian AD allows an appropriately trained pilot to perform the visual inspections of the canard inboard flap hinge support brackets. Although the Malaysian AD does not specifically state this, it does refer to the Australian AD. Regardless, the Federal Aviation Regulations (14 CFR 43.3) only allow the pilot to perform preventive maintenance as described in 14 CFR part 43, App. A, paragraph (c).

These visual inspections are not considered preventive maintenance under 14 CFR part 43, App. A, paragraph (c). Therefore, an appropriately-rated mechanic must perform all actions of this AD.

Actions | Compliance | Procedures
(1) Inspect the gusset weld area of the canard inboard flap hinge support brackets, part number (P/N) 5731D01-05 and P/N 5731D01-02, for cracks (cracked, lifted, or missing paint in the area of the weld or suspected cracks) | Initially inspect prior to the next flight after June 4, 2004 (the effective date of this AD). Repetitively inspect thereafter before the first flight of each day | Follow Eagle Aircraft Mandatory Service Bulletin SB 1109, Revision Original, Effective Date August 29, 2003.
(2) If cracked, lifted, or missing paint in area of the weld or suspected cracks are found during any inspection required in paragraph (e)(1) of this AD, inspect the affected bracket more fully as specified in the service bulletin | Prior to further flight after any inspection required by paragraph (e)(1) where cracked, lifted, or missing paint in the area of the weld or suspected cracks are found | Follow Eagle Aircraft Mandatory Service Bulletin SB 1109, Revision Original, Effective Date August 29, 2003.
(3) If any crack(s) is/are found during any inspection required by this AD, replace the cracked bracket and continue to inspect per paragraphs (e)(1) and (e)(2) of this AD | Replace prior to further flight after the inspection where cracks are found. Inspect prior to the next flight after June 4, 2004 (the effective date of this AD) and thereafter before the first flight of each day | Follow Eagle Aircraft Mandatory Service Bulletin SB 1109, Revision Original, Effective Date August 29, 2003.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

May I Obtain a Special Flight Permit for This AD?

(g) No. Special flight permits are not allowed for this AD. Part 39 of the Federal Aviation Regulations (14 CFR part 39) provides blanket approval of special flight permits for ADs, unless otherwise specified in the individual AD. The FAA has determined that the safety issue is severe enough that failure of the canard inboard flap hinge support brackets must be prevented and cracks in this area must be detected before further operation.

Does This AD Incorporate Any Material by Reference?

(h) You must do the actions required by this AD following the instructions in Eagle Aircraft Mandatory Service Bulletin SB 1109, Revision Original, Effective Date August 29, 2003. The Director of the Federal Register approved the incorporation by reference of this service bulletin in accordance with 5 U.S.C. 552(a) and 1 CFR part 51. You may get a copy from Eagle Aircraft, P.O. Box 1028, Pejabat Pos Besar Melaka, 75150 Melaka, Malaysia; telephone: (606) 317-4105; facsimile: (606) 317-7213. You may review copies at FAA, Central Region, Office of the Regional Counsel, 901 Locust, Room 506, Kansas City, Missouri 64106; or at the National Archives and Records Administration (NARA). For information on the availability of this material at NARA, go to: http://www.archives.gov/federal_register/code_of_federal_regulations/ibr_locations.html or call (202) 741-6030. You may view the AD docket at the Docket Management Facility; U.S. Department of Transportation, 400 Seventh Street, SW., Nassif Building, Room PL-401, Washington, DC, or on the Internet at http://dms.dot.gov.

Is There Other Information That Relates to This Subject?

(i) Malaysian AD No.: CAM AD 001-2004, dated January 19, 2004, and Australian AD No.: CASA AD/X-TS/5, dated October 2003, also address the subject of this AD.

Issued in Kansas City, Missouri, on May 20, 2004.
Dorenda D. Baker,
Manager, Small Airplane Directorate, Aircraft Certification Service.

[FR Doc. 04-11876 Filed 5-26-04; 8:45 am]

BILLING CODE 4910-13-P